SMALL BUSINESS ADMINISTRATION

[Disaster Declaration #21430; Louisiana Disaster Number LA-20012 Declaration of Economic Injury]

Administrative Declaration of an Economic Injury Disaster for the State of Louisiana

AGENCY: U.S. Small Business Administration.

ACTION: Notice.

SUMMARY: This is notice of an Economic Injury Disaster Loan (EIDL) declaration for the state of Louisiana dated February 2, 2026.

Incident: 2026 Severe Winter Storm.

DATES: Issued on February 2, 2026.

Incident Period: January 23, 2026 through January 25, 2026.

Economic Injury (EIDL) Loan Application Deadline Date: November 2, 2026.

ADDRESSES: Visit the MySBA Loan Portal at https://lending.sba.gov to apply for a disaster assistance loan.

FOR FURTHER INFORMATION CONTACT: Jennifer Talarico, Office of Disaster Recovery and Resilience, U.S. Small Business Administration, 409 3rd Street SW, Suite 6050, Washington, DC 20416, (202) 205-6734.

SUPPLEMENTARY INFORMATION: Notice is hereby given as a result of the Administrator's EIDL declaration, applications for disaster loans may be submitted online using the MySBA Loan Portal https://lending.sba.gov or in person at other locally announced locations. For further assistance please contact the SBA disaster assistance customer service center by email at disastercustomerservice@sba.gov or by phone at 1-800-659-2955. If you are deaf, hard of hearing, or have a speech disability, please dial 7-1-1 to access telecommunications relay services.

The following areas have been determined to be adversely affected by the disaster:

Primary Parishes: Bossier, East Carroll, Ouachita, Richland, Tensas.

Contiguous Parishes/Counties:

Louisiana: Bienville, Caddo, Caldwell, Catahoula, Concordia, Franklin, Jackson, Lincoln, Madison, Morehouse, Red River, Union, Webster, West Carroll.

Arkansas: Chicot, Lafayette, Miller.

Mississippi: Adams, Claiborne, Issaquena, Jefferson, Warren.

The Interest Rates are:

| Percent
Business and Small Agricultural Cooperatives without Credit Available Elsewhere | 4.000
Private Non-Profit Organizations without Credit Available Elsewhere | 3.625

The number assigned to this disaster for economic injury is 214300.

The states which received an EIDL declaration are Arkansas, Louisiana, Mississippi.

(Catalog of Federal Domestic Assistance Number 59008)

(Authority: 13 CFR 123.3(b).)

James Stallings,
Associate Administrator, Office of Disaster Recovery & Resilience.

[FR Doc. 2026-02294 Filed 2-4-26; 8:45 am]

BILLING CODE 8026-09-P